DEPARTMENT OF LABOR

Employment and Training Administration

[TA-W-54,871 and TA-W-54,871A]

DeVLIEG Bullard II, Inc., Tooling Systems Division Frankenmuth, MI; Including an Employee of DeVlieg Bullard II, Inc.,Tooling System Division, Frankenmuth, MI Located in Houston, TX; Amended Certification Regarding Eligibility, To Apply for Worker Adjustment Assistance and Alternative Trade Adjustment Assistance

In accordance with section 223 of the Trade Act of 1974 (19 U.S.C. 2273) the Department of Labor issued a Certification of Eligibility to Apply for Worker Adjustment Assistance and Alternative Trade Adjustment Assistance on June 21, 2004, applicable to workers of DeVlieg Bullard II, Inc., Tooling Systems Division, Frankenmuth, Michigan. The notice was published in the Federal Register on August 3, 2004 (69 FR 46575).

At the request of the State agency, the Department reviewed the certification for workers of the subject firm. New information shows that a worker separation occurred involving an employee of the Frankenmuth, Michigan facility of DeVlieg Bullard II, Inc., Tooling Systems Division located in Houston, Texas. Mr. Frank Swanson provided support services for production of metal tooling produced at the Frankenmuth, Michigan location of the subject firm.

Based on this finding, the Department is amending this certification to include an employee of the Frankenmuth, Michigan facility of DeVlieg Bullard II, Inc., Tooling Systems Division location in Houston, Texas. Since workers of the Frankenmuth, Michigan location of the firm were certified eligible to apply for alternative trade adjustment assistance, the Department is extending this eligibility to Mr. Frank Swanson in Houston, Texas.

The intent of the Department's certification is to include all workers of DeVlieg Bullard II, Inc., Tooling Systems Division, Frankenmuth, Michigan, who were adversely affected by increased imports.

The amended notice applicable to TA-W-54,871 is hereby issued as follows:

All workers of DeVlieg Bullard II, Inc., Tooling Systems Division, Frankenmuth, Michigan (TA-W-54,871), including an employee of DeVlieg Bullard II, Inc., Tooling Systems Division, Frankenmuth, Michigan, location in Houston, Texas (TA-W-54,871A), who became totally or partially separated from employment on or after May 5, 2003, through June 21, 2006, are eligible to apply for adjustment assistance under Section 223 of the Trade Act of 1974, and are also eligible to apply for alternative trade adjustment assistance under Section 246 of the Trade Act of 1974.

Signed in Washington, DC this 31st day of January 2005.
Linda G. Poole,
Certifying Officer, Division of Trade Adjustment Assistance.

[FR Doc. E5-488 Filed 2-7-05; 8:45 am]

BILLING CODE 4510-30-P